DEPARTMENT OF THE TREASURY

[Catalog of Federal Domestic Assistance (CFDA) Number: 21.030]

Emergency Capital Investment Program; Notice of Investment Availability

AGENCY: Emergency Capital Investment Program, Department of the Treasury.

ACTION: Notice of investment availability.

SUMMARY: This NOIA is published in connection with the Emergency Capital Investment Program (ECIP), administered by the U.S. Department of the Treasury (Treasury). Through this NOIA, Treasury announces the availability of up to approximately $340 million in funding. Established by the Consolidated Appropriations Act, 2021, the ECIP was created to encourage low- and moderate-income community financial institutions to augment their efforts to support small businesses and consumers in their communities. Under the program, Treasury will provide up to $8.7 billion in capital directly to depository institutions that are certified community development financial institutions (CDFIs) or minority depository institutions (MDIs) to, among other things, provide loans, grants, and forbearance for small businesses, minority-owned businesses, and consumers, especially in low-income and underserved communities, that may be disproportionately impacted by the economic effects of the COVID-19 pandemic. Treasury previously invested a total of approximately $8.34 billion and may invest up to an additional approximately $340 million. This is the second round of ECIP funding available.

DATES: Low- and moderate-income community financial institutions may submit applications for investment starting on the date of publication of this Notice of Investment Availability (NOIA). In order to be considered for investment, applications must be submitted by 11:59 p.m. Eastern Time (ET) on January 31, 2023.

SUPPLEMENTARY INFORMATION: For more information, please see Treasury's ECIP website at https://home.treasury.gov/policy-issues/coronavirus/assistance-for-small-businesses/emergency-capital-investment-program. Any terms not defined in this NOIA are defined under 12 U.S.C. 4703a or the ECIP Application Forms and Instructions, as applicable.

Form of Application: Electronic application via the ECIP portal is required. As of the date of this NOIA, a copy of the ECIP Application Form and Instructions is available on the ECIP website at https://home.treasury.gov/policy-issues/coronavirus/assistance-for-small-businesses/emergency-capital-investment-program. Additional resources available on the ECIP website include application FAQs, forms of legal documents, information on how applications will be evaluated, and other information. Note that the displayed version of the application cannot be submitted for consideration. Applicants must use the application form available via the ECIP portal.

FOR FURTHER INFORMATION CONTACT: David Meyer, Program Manager, Emergency Capital Investment Program, (202) 819-3127, ECIP@treasury.gov.

Noel Poyo,
Deputy Assistant Secretary for Community and Economic Development.

[FR Doc. 2022-27000 Filed 12-13-22; 8:45 am]

BILLING CODE 4810-AK-P